SOCIAL SECURITY ADMINISTRATION

Statement of Organization, Functions and Delegations of Authority

This statement amends part S of the Statement of the Organization, Functions and Delegations of Authority which covers the Social Security Administration (SSA). Chapter S2 covers the Deputy Commissioner, Operations. Notice is given that Subchapter S2R, the Office of Central Operations, is being amended. The new material and changes are as follows:

Section S2R.10 The Office of Central Operations—(Organization):

C. The Immediate Office of the Associate Commissioner, Office of Central Operations (S2R).

4. The Assistant Associate Commissioner for Management and Operations Support (S2RC).

Retitle:

a. The “Center for Systems and Logistics Support (S2RC1)” to the “Center for Information Technology(S2RC1)”

d. The “Center for Material Resources Support (S2RC4)” to the “Center for Material Resources (S2RC4)”

Section S2R.20 The Office of Central Operations—(Functions):

C. The Immediate Office of the Associate Commissioner, OCO (S2R) provides internal operations and management support and assistance to the Associate Commissioner and all OCO components.

4. The Assistant Associate Commissioner for Management and Operations Support (S2RC) is responsible for the direction of six centers which perform systems, management, program, material resources, personnel management services and security and integrity support functions for OCO.

Retitle:

a. The “Center for Systems and Logistics Support (S2RC1)” to the “Center for Information Technology (S2RC1)”.

Delete: Number 2.

Renumber: Numbers 3, 4 and 5 to 2, 3 and 4.

Delete: Number 6.

Delete: From Number 10, “health and safety matters, laborer services, transportation, projects concerning the maintenance and performance of capitalized equipment and other property inventories, and provides input to budget submittals for equipment, furniture and supplies”

Renumber: Numbers 7, 8, 9 and 10 to 5, 6, 7 and 8.

b. The Center for Management Support (S2RC2):

1. Provides administrative support to the Associate Commissioner, OCO; and the OCO Assistant Associate Commissioners in such areas as:

Amend as follows:

Delete: “—Performance Management and Recognition.” “—Budget Development and Management.”

Add: “—Equal Employment Opportunity.”

Retitle:

d. The “Center for Material Resources Support (S2RC4)” to the “Center for Material Resources (S2RC4)”:

Add:

8. Serves as SSA Liaison with the Department of the Treasury to ensure timely benefit payments.

9. Procures items within the limits of the delegated authorities afforded OCO, essential to the operation.

10. Coordinates health and safety matters, laborer services, transportation, projects concerning the maintenance and performance of capitalized equipments and submittals for equipment, furniture and supplies.

11. Coordinates OCO Budget Development and Management.

e. The Center for Human Resources (S2RC5):

Add: 13. Performance Management and Recognition.

Dated: April 2, 2003.
Reginald F. Wells,
Deputy Commissioner for Human Resources.

[FR Doc. 03-9443 Filed 4-16-03; 8:45 am]

BILLING CODE 4191-02-P